DEPARTMENT OF AGRICULTURE

Commodity Credit Corporation

7 CFR Part 1439

RIN 0560-AH26

American Indian Livestock Feed Program; Livestock Assistance Program

AGENCY: Commodity Credit Corporation, USDA.

ACTION: Final rule.

SUMMARY: This regulation sets forth the terms and conditions of the 2003/2004 American Indian Livestock Feed Program (AILFP). Assistance will be available to eligible livestock producers for livestock feed crop years 2003 or 2004 whose eligible livestock occupied tribal-governed land at the time of a natural disaster in an area where a significant loss of livestock feed has occurred, creating a livestock feed emergency, as determined by the Commodity Credit Corporation (CCC). Eligible producers can receive benefits for livestock feed crop year 2003, or 2004, but not both. Eligible tribal-governed land must be located in a primary county or counties that have received an emergency declaration by the President or emergency designation by the Secretary of Agriculture on or after January 1, 2003, for losses occurring in calendar year 2003, or calendar year 2004. Although the Presidential declarations and Secretarial designations were issued for natural disasters in those calendar years, tribal governments may request an initial 90-day feeding period and up to three 90-day extensions that extend from the beginning of a livestock feed crop year, to the end of that same livestock feed crop year. Further, livestock owners who sold eligible livestock as a direct result of natural disaster shall report those livestock as owned through the end of the production year (livestock feed crop year) in order to mitigate the livestock owner's losses. This rule is intended to implement legislation and assist affected producers in overcoming the effects of drought. In addition, this rule provides technical revisions for the Livestock Assistance Program regulations.

DATES: Effective May 24, 2005.

FOR FURTHER INFORMATION CONTACT: Deborah O'Donoghue, Program Specialist, Noninsured Assistance Programs Branch (NAPB), Production, Emergencies, and Compliance Division (PECD), Farm Service Agency (FSA), United States Department of Agriculture, STOP 0517, 1400 Independence Avenue, SW., Washington, DC 20250-0517; telephone (202) 720-5172; e-mail: Debbie.O'Donoghue@wdc.usda.gov. Persons with disabilities who require alternative means for communication (Braille, large print, audio tape, etc.) should contact the USDA Target Center at (202) 720-2600 (voice and TDD).

SUPPLEMENTARY INFORMATION:

Background

Section 813 of the Agricultural Act of 1970, 7 U.S.C. 1427a, gave the Secretary of Agriculture some authority to provide assistance resulting from disasters. In 1998, remaining funds under that authority were used to fund the AILFP. Further, AILFP funding was provided for in section 806 of Public Law 106-387, which was appropriations legislation enacted in October of 2000. Section 101(b) of Division B of the Military Construction Appropriations and Emergency Hurricane Supplemental Appropriations Act, 2005, Public Law 108-324, enacted in October of 2004 (“2004 Act”), provides for livestock assistance generally for producer losses in 2003 or 2004 (as elected by the producer). That assistance, generally, will be administered under the 2003-2004 Livestock Assistance Program (LAP). The 2003-2004 LAP provisions will be administered under rules separate from the AILFP regulations promulgated in this notice.

Regarding AILFP, section 101(b) permits the Secretary of Agriculture to use the LAP funds to make assistance available under AILFP, in an amount determined by the Secretary. The AILFP provision is understood to be part of an overall package of livestock assistance. Accordingly, the AILFP rules adopted here follow the same basic statutory conditions for LAP as provided in the 2004 Act. Accordingly, relief is for 2003 losses or 2004 losses, but not both, as the eligible producer elects. The same year must be chosen for all of the participant's farms. Similarly, if the participant participates in both the LAP and AILFP, the same year must be chosen for both programs. Further, LAP, under 101(b) of the 2004 Act, is confined to counties that received an emergency designation after January 1, 2003. This limitation is included in these rules. Other clarifying changes have been made to previous AILFP rules. However, the new rules generally follow the old rules. That adherence comports with the new statute's provisions in 101(b) that assistance be made available in the same manner as that administered under Section 806 of Public Law 106-387. For calculating benefit eligibilities a formula change was made to clarify and simplify the regulations in a manner that follows the LAP calculation. That change should not materially affect claims. Also, appropriations language in Public Law 108-447 provided that livestock administered in this fiscal year cover bison, elk, and reindeer, and this rule contains that provision. Further, the Secretary operated a program under Section 32 of the Act of August 24, 1935, with respect to 2004 hurricane losses. Section 101(c) of Division B of the 2004 Act provides that persons who received payments under that program are not eligible for payments under Section 101. That provision, too, is reflected in this rule.

In addition, this rule makes two technical changes to the 2003-2004 Livestock Assistance Program regulations at 7 CFR part 1439, subpart B. The first change is to remove an extra decimal place in a payment program formula. The second change removes a provision for payment of interest on delayed payments by CCC in order to conform with previous practice with respect to LAP.

Benefit-Cost Analysis

The AILFP began on November 27, 1998, for livestock feed losses suffered for the 1997 and subsequent crop-years due to unfavorable weather conditions. It provided $12.5 million from the sale of grain previously held in the Disaster Reserve. AILFP replaced the Indian Acute Distress Donation Program which was suspended in 1996. AILFP differed from previous livestock feeding programs because it made direct cash payments instead of grain donations. AILFP funding of $11.9 million was provided through an appropriation in section 806 of the Agriculture, Rural Development, Food and Drug Administration and Related Agencies Appropriations Act, 2001 (Pub. L. 106-387, Oct. 28, 2000) (the 2001 Act) for FY 2001.

The 2005 Act appropriates no funds, but empowers the Secretary of Agriculture to use such sums as are necessary in the fiscal year ending September 30, 2005. FSA and CCC estimate that approximately $33 million in actual outlays will be made for the 2003/2004 AILFP, with some variation possible depending on the severity, extent, intensity, and duration of the drought conditions in counties where Indian reservations are located.

Notice and Comment

Section 101(g) of Division B of the 2004 Act requires that these regulations be promulgated without regard to the notice and comment provisions of 5 U.S.C. 553 or the Statement of Policy of the Secretary of Agriculture effective July 24, 1971 (36 FR 13804), relating to notice and comment rulemaking and public participation in rulemaking. These regulations are accordingly issued as final.

Executive Order 12866

This final rule has been determined to be significant under Executive Order 12866 and has been reviewed by the Office of Management and Budget (OMB).

Federal Assistance Programs

The title and number of the Federal assistance program, as found in the Catalog of Federal Domestic Assistance, to which this final rule applies are: 10.066, Livestock Assistance Program.

Regulatory Flexibility Act

The Regulatory Flexibility Act is not applicable to this rule because neither the Secretary of Agriculture nor CCC are required by 5 U.S.C. 553 or any other law to publish a notice of proposed rulemaking for the subject matter of this rule.

Environmental Review

The environmental impacts of this rule have been considered consistent with the National Environmental Policy Act of 1969 (NEPA), 42 U.S.C. 4321 et seq., the regulations of the Council on Environmental Quality (40 CFR parts 1500 1508), and regulations of the Farm Service Agency (FSA) of the Department of Agriculture (USDA) for compliance with NEPA, 7 CFR part 799. An Environmental Evaluation was completed and it was determined that the proposed action does not have the potential to significantly impact the quality of the human environment and, therefore, the rule is categorically excluded from further review under NEPA. A copy of the environmental evaluation is available for inspection and review upon request.

Executive Order 12778

The final rule has been reviewed in accordance with Executive Order 12778. This final rule preempts State laws that are inconsistent with its provisions, but the rule is not retroactive. Before any judicial action may be brought concerning this rule, all administrative remedies must be exhausted.

Executive Order 12372

This program is not subject to Executive Order 12372, which requires intergovernmental consultation with State and local officials. See the notice related to 7 CFR part 3015, subpart V, published at 48 FR 29115 (June 24, 1983).

Unfunded Mandates

Title II of the Unfunded Mandates Reform Act of 1995 (UMRA) does not apply to this rule because neither the Secretary of Agriculture nor CCC are required by 5 U.S.C. 553 or any other law to publish a notice of proposed rulemaking for the subject matter of this rule. Also, the rule imposes no mandates as defined in UMRA.

Small Business Regulatory Enforcement Fairness Act of 1996

Section 101(g) of Division B of the 2004 Act requires that the Secretary use the authority in section 808 of the Small Business Regulatory Enforcement Fairness Act of 1996 (Pub. L. 104-121) (“SBREFA”), which allows an agency to forgo SBREFA's usual 60-day Congressional Review delay of the effective date of a major regulation if the agency finds that there is a good cause to do so. Accordingly, this rule is effective upon the date of filing for public inspection by the Office of the Federal Register.

Paperwork Reduction Act

Section 101(g) of Division B of the 2004 Act requires that these regulations be promulgated and the activities under this rule be administered without regard to the Paperwork Reduction Act. This means that the information to be collected from the public to implement these provisions and the burden, in time and money, the collection of the information would have on the public does not have to be approved by the Office of Management and Budget or be subject to the normal requirement for a 60 day public comment period.

Government Paperwork Elimination Act

CCC is committed to compliance with the Government Paperwork Elimination Act (GPEA) and the Freedom to E-File Act, which require Government agencies in general, and the FSA in particular, to provide the public the option of submitting information or transacting business electronically to the maximum extent possible. The forms and other information collection activities required to be utilized by a person subject to this rule are implemented in a way that would allow the public to conduct business with CCC electronically. Accordingly, at this time, forms required to be submitted under this rule may be submitted to CCC by mail, fax, or electronically.

Executive Order 12612

This rule has no Federalism implications warranting a Federalism Assessment. This rule will not affect States, or their political subdivisions, or the distribution of power and responsibilities among levels of government.

List of Subjects in 7 CFR 1439

Agricultural commodities, Disaster assistance, Indian tribes, Livestock, Livestock feed.

Accordingly, 7 CFR part 1439 is amended as set forth below:

PART 1439—EMERGENCY LIVESTOCK ASSISTANCE

1. The statutory authority continues to read as follows:

Authority: 7 U.S.C. 1427a; 15 U.S.C. 714 et seq.; Sec. 1103, Pub. L. 105-277, 112 Stat. 2681-42-44; Pub. L. 106-31, 113 Stat. 57; Pub. L. 106-78, 113 Stat. 1135; Pub. L. 106-113, 113 Stat. 1501; Sec. 257, Pub. L. 106-224, 114 Stat. 358; Sec's. 802, 806, & 813 Pub. L. 106-387, 114 Stat. 1549; Pub. L. 108-7, 117 Stat. 11; Sec. 101 of Division B, Pub. L. 108-324, 118 Stat. 1220; Sec. 785 of Division A, Pub. L. 108-447, 118 Stat. 2809.

Subpart B—2003-2004 Livestock Assistance Program

§ 1439.107 [Amended]

2. In § 1439.107(c)(2), revise the figure “$0.54108797” to read “$0.5410879”.

§ 1439.112 [Amended]

3. In § 1439.112, remove paragraph (e) and redesignate paragraphs (f) through (k) as paragraphs (e) through (j), respectively.

4. Add Subpart I, to read as follows

Subpart I—American Indian Livestock Feed Program
Sec.
1439.900 [Reserved]
1439.901 Applicability.
1439.902 Administration.
1439.903 Definitions.
1439.904 Region.
1439.905 Responsibilities.
1439.906 Program availability.
1439.907 Eligibility.
1439.908 Payment application.
1439.909 Payments.
1439.910 Program suspension and termination.
1439.911 Appeals.
1439.912 Estates, trusts, and minors.
1439.913 Death, incompetence, and disappearance.
1439.914 Violations.

Subpart I—American Indian Livestock Feed Program

§ 1439.900 [Reserved]

§ 1439.901 Applicability.

This subpart sets forth, subject to the availability of funds, the terms and conditions of a government-to-government program titled the American Indian Livestock Feed Program (AILFP). Assistance will be available in those regions that Commodity Credit Corporation (CCC) determines have been affected by natural disaster and are located in a primary county or counties that have received a Presidential declaration or Secretarial emergency designation issued on or after January 1, 2003, for eligible losses in 2003 or 2004. Eligible producers may receive benefits for 2003 losses, or 2004 losses, but not both. Eligible areas will only include those where a determination is made by the Deputy Administrator for Farm Programs, Farm Service Agency (FSA) (Deputy Administrator) that a livestock feed emergency exists on tribal-governed land. Contiguous counties that were not designated as a primary disaster county in their own right will not be eligible for participation for 2003 or 2004 losses under this subpart. Payments may become available as contracts with tribal governments are approved. Unless otherwise specified or determined by the Deputy Administrator, a livestock producer is not eligible to receive payments for the same loss under both this subpart and another Federal program. Payments will terminate when the specified deadline has been reached, when a tribal government requests termination, or when there is a program violation or a violation of a contract related to the program irrespective of whether the violation involves the current operation of the program for other periods of time.

§ 1439.902 Administration.

(a) This subpart will be administered by CCC under the general supervision of the Deputy Administrator for Farm Programs. This program shall be carried out in the field as prescribed in these regulations and as directed in the contract executed between the applicable tribal government and CCC, except that in the event any contract provision conflicts with these regulations, the regulations shall apply.

(b) Tribal governments, their representatives, and employees do not have authority to modify or waive any provisions of the regulations of this subpart.

(c) State and county committees, and representatives and employees thereof, do not have the authority to modify or waive any provisions of regulations of this subpart.

(d) The Deputy Administrator may authorize State and county committees to waive or modify deadlines and other program requirements in cases where the applicant or tribe, as applicable, shows that circumstances beyond the applicant's or tribe's control precluded compliance with the deadline and where lateness or failure to meet such other requirements does not adversely affect the operation of the program.

(e) The tribal government will, in accordance with this part and in coordination with the U.S. Department of the Interior, Bureau of Indian Affairs (BIA), and FSA State and county committees, recommend the geographical size and shape of the region which will be considered to be eligible to be considered the region where the natural disaster has occurred and where all eligibility conditions are met. Such region must consist solely of tribal-governed land and be located in a primary county or counties named in a Presidential declaration or Secretarial emergency designation. Regional eligibilities will be effective only upon the Deputy Administrator's approval in writing and continued approval thereafter.

(f) The Deputy Administrator will determine all prices with respect to implementing the AILFP.

(g) Subject to review by the Deputy Administrator, the FSA State committee will determine crop yields and livestock carrying capacity with respect to implementing the AILFP.

(h) Participation in the AILFP by a tribal government for either the tribal government's benefits or for the benefit of any eligible owner is voluntary and is with the understanding that CCC will not reimburse the tribal government or its members for any administrative costs associated with the administration or implementation of the program.

(i) Except as otherwise declared by the Deputy Administrator, Subpart A shall not apply to this subpart, except §§ 1439.3 through 1439.10, and 1439.12.

(j) No delegation herein to a State or county committee or a commodity office shall preclude the Executive Vice President, CCC, or a designee, from determining any question arising under this part or from reversing or modifying any determination made by a State or county committee or employee of the Department of Agriculture.

§ 1439.903 Definitions.

The definitions set forth in this section shall be applicable to the program authorized by this subpart. The terms defined in § 1439.3 shall also be applicable except where those definitions conflict with the definitions set forth in this subpart. The following terms shall have the following meanings:

Approving official means a representative of the tribal government who is authorized to approve an application for assistance made in accordance with this subpart.

Carrying capacity means the stocking rate expressed as acres per animal unit that is consistent with maintaining or improving vegetation or related resources.

Dependent Indian community means a limited category of Indian lands that are neither reservations nor allotments and is:

(1) Land set aside by the Federal Government for the use of Indians as Indian land, and

(2) Under Federal superintendence.

Disaster period means the length of time that damaging weather, adverse natural occurrence, or related condition had a detrimental affect on the production of livestock feed.

Eligible feed for assistance means any type of feed (feed grain, oilseed meal, premix, or mixed or processed feed, liquid or dry supplemental feed, roughage, pasture, or forage) that provides net energy requirements, is consistent with acceptable feeding practices, and was not produced by the owner.

Eligible livestock means beef and dairy cattle; buffalo and beefalo maintained on the same basis as beef cattle; equine animals used for food or used directly in the production of food; sheep; goats; swine; elk; and reindeer.

Eligible owner means an individual or entity, including a tribe, eligible to participate in this program, who:

(1) Contributes to the production of eligible livestock or their products;

(2) Has such contributions at risk;

(3) Meets the criteria set forth in § 1439.907, and elsewhere in this part; and

(4) Meets eligibility criteria set forth by the tribal government in an approved contract.

Livestock feed crop year means a period of time beginning on the date grazing first becomes available in each county, as established by each State Committee, and ending one year later.

Livestock feed emergency means a situation in which a natural disaster causes more than a 35-percent reduction in the feed produced in a region, determined in accordance with § 1439.904 for a defined period, as determined by CCC. Any loss of feed production attributable to overgrazing or other factors not considered to be a natural disaster as specified in this subpart shall not be included in the loss used to determine if a livestock feed emergency occurred.

Natural disaster means damaging weather, including but not limited to: drought, hail, excessive moisture, freeze, tornado, hurricane, excessive wind, or any combination thereof; or an adverse natural occurrence such as earthquake, flood, or volcanic eruption; or a related condition, including but not limited to heat, or insect infestation, that occurs as a result of aforementioned damaging weather or adverse natural occurrence prior to or during the crop year that directly causes, accelerates, or exacerbates the reduction of livestock feed production.

Region means a geographic area suffering a livestock feed emergency because of natural disaster as determined by a tribal government in accordance with § 1439.904.

Tribal governed land means:

(1) All land within the limits of any Indian reservation;

(2) Dependent Indian communities;

(3) Any lands title to which is either held in trust by the United States for the benefit of an Indian tribe or Indian, or held by an Indian tribe or Indian subject to a restriction by the United States on alienation; and

(4) Land held by an Alaska Native, Alaska Native Village, or village or regional corporation under the provisions of the Alaska Native Claim Settlement Act, or other Act relating to Alaska Natives.

Tribe means an Indian or Alaska Native tribe, band, nation, pueblo, village, or community that the Secretary of the Interior acknowledges to exist as an Indian tribe pursuant to the Federally Recognized Indian Tribe List Act of 1994 (25 U.S.C. 479a).

Type and weight range means the weight range by type of livestock; provided further that for purposes of calculations of payment eligibility under this subpart, as provided for in this subpart, such livestock shall be considered to have the following daily feed need expressed in pounds of corn per head per day:

Category | Weight range | Pounds of corn per head, per day
Type—Beef Cattle (Buffalo/Beefalo):
Beef | Under 400 | 3.5
Beef | 400-799 | 6.5
Beef | 800-1099 | 8.5
Beef | 1100+ | 12.5
Beef, Cow | All | 15.7
Beef, Bull | 1000+ | 13.0
Type—Dairy Cattle:
Dairy | Under 400 | 3.5
Dairy | 400-799 | 6.5
Dairy | 800-1099 | 8.5
Dairy | 1100+ | 12.5
Dairy, Cow | Under 1100 | 27.0
Dairy, Cow | 1100-1299 | 31.0
Dairy, Cow | 1300-1499 | 33.0
Dairy, Cow | 1500+ | 34.5
Dairy, Bull | 1000+ | 14.5
Type—Swine:
Swine | Under 45 | 0.5
Swine | 45-124 | 1.1
Swine | 125+ | 1.9
Swine, Sow | 235+ | 6.5
Swine, Boar | 235+ | 3.7
Type—Sheep:
Sheep | Under 44 | 0.4
Sheep | 44-82 | 0.9
Sheep | 83+ | 1.1
Sheep, Ewe | 150+ | 3.1
Sheep, Ram | 150+ | 1.7
Type—Goats:
Goats | Under 44 | 0.5
Goats | 44-82 | 1.1
Goats | 83+ | 1.5
Goats, Doe | 125+ | 3.5
Goats, Doe (Dairy) | 125+ | 5.2
Goats, Buck | 125+ | 2.1
Type—Equine:
Equine | Under 450 | 4.4
Equine | 450-649 | 6.3
Equine | 650-874 | 8.2
Equine | 875+ | 11.6
Type—Reindeer:
All | Under 400 | 3.5
Type—Elk
Elk | Under 400 | 3.5
Elk, Cow | 400-799 | 6.5
Elk, Bull | 800-1099 | 8.5

§ 1439.904 Region.

In order for a region to be eligible to generate benefits under this subpart, the region must:

(a) Be located in a primary county or counties named in a Presidential declaration or Secretarial emergency designation;

(b) Be tribal-governed land physically located within the primary disaster designated county; and

(c) Have suffered a livestock feed emergency as defined in § 1439.903.

§ 1439.905 Responsibilities.

(a) During the operation of this program, CCC shall:

(1) Provide weather data, crop yields and carrying capacities to tribes requesting such information;

(2) Review contracts submitted by tribal governments requesting disaster regions; and

(3) Act as an agent for disbursing payments to eligible livestock owners in approved disaster regions.

(b) Tribal governments shall be responsible for:

(1) Submitting a contract to participate in the AILFP based on the tribes' voluntary decisions that participation will benefit all livestock owners using tribal governed land;

(2) Gathering, organizing, and reporting accurate information regarding disaster conditions and region;

(3) Advising livestock owners in an approved region that they may be eligible for payments, in addition to the method and requirements for filing applications;

(4) Determining that the information provided by individual livestock owners on payment applications is accurate and complete and that the owner is eligible for payments under this program;

(5) Submitting only accurate and complete payment applications to the designated FSA office acting as an agent for disbursing payments to eligible livestock owners.

(c) The owner or authorized representative shall:

(1) Furnish all the information specified on the payment application, as requested by CCC;

(2) Provide any other information that the tribal government deems necessary to determine the owner's eligibility; and

(3) Certify that purchased feed was or will be fed to the owner's eligible livestock.

§ 1439.906 Program availability.

(a) When a tribal government determines that a livestock feed emergency existed in calendar year 2003 or 2004 on tribal governed land due to a natural disaster, the tribal government may contact the applicable State FSA office to determine if their tribal governed land is located in a primary county or counties named in a Presidential declaration or Secretarial emergency designation made after January 1, 2003, with respect to losses in 2003 or 2004. After a Presidential or Secretarial emergency designation has been confirmed, the tribal government may submit a properly completed contract requesting approval of a region. All contracts requesting region approval must be submitted by the later of July 25, 2005, or 60 days after the end of the disaster period, whichever is later, as specified on the contract.

(b) Properly completed contracts shall consist of:

(1) A completed Contract to Participate form; and

(2) A completed Region Designation and Feed Loss Assessment form; and

(3) Supportive documentation as determined by CCC including, but not limited to:

(i) A map of the region delineated in accordance with § 1439.904;

(ii) Historical production data and estimated or actual production data for the disaster year; and

(iii) Climatological data provided by the State FSA office.

(c) The Deputy Administrator shall make a determination as to whether a livestock feed emergency existed not later than 30 days after receipt of a properly completed contract made in accordance with this subpart and shall notify the tribal government and FSA State office of such determination as applicable. Approvals will be made on the basis of a Presidential or Secretarial emergency designation for the primary county or counties named in the contract, and whether the requisite 35 percent loss on tribal governed land in that county or counties can be substantiated by supporting documentation, and other conditions as required by this subpart, other regulations, the Deputy Administrator, or CCC.

(d) The feeding period provided in the approved contract will be for a term not to exceed 90 days, except as provided in paragraph (e) of this section. The feeding period shall not be extended if the livestock feed emergency ceased to exist.

(e) The tribal government may request multiple feeding periods for up to three additional 90-day periods in a livestock feed crop year if disaster conditions did not diminish significantly and a livestock feed emergency continued and other conditions for payment are met.

(f) Tribal governments shall submit separate contracts for disasters occurring in both 2003 and 2004 calendar years; however, livestock owners shall elect only one of those years to receive benefits.

§ 1439.907 Eligibility.

(a) An eligible owner must own or jointly own the eligible livestock for which payments under this subpart are requested. Notwithstanding any other provision of this subpart, livestock leased under a contractual agreement that has been in effect at least 6 months prior to the beginning of the feeding period made under this subpart shall be considered as being owned by the lessee for that part of the feeding period in which the lease was in effect but only if the lease:

(1) Required the lessee for the full lease period to furnish the feed for such livestock; and

(2) Provided for a substantial interest, as determined by the Deputy Administrator, in such livestock in the lessee, such as the right to market a substantial share of the increase in weight of livestock.

(b) A State or non-tribal local government or subdivision thereof, or any individual or entity determined to be ineligible in accordance with § 1400.501 of this chapter are not eligible for benefits under this subpart.

(c) Any eligible owner of livestock, including the tribe, may file a CCC-approved AILFP payment application. When such a payment application is filed, the owner and an authorized tribal government representative shall execute the certification contained on such payment application no later than the deadline established by CCC upon approval of the region.

(d) To be eligible for benefits under this subpart, livestock owners must own or lease tribal-governed land in the approved delineated region, and have had livestock on such land at the time of disaster that is the basis for the region's designation.

(e) Eligible livestock owners shall be responsible for providing information to the tribal government that accurately reflects livestock feed purchases for eligible livestock during the feeding period. False or inaccurate information may affect the owner's eligibility.

§ 1439.908 Payment application.

(a) Except as provided in paragraph (d) of this section, payment applications from interested eligible owners must be:

(1) Submitted to the FSA county office where the tribal-governed land is administered, or to the tribal government, by the owner no later than a date announced by the tribe, such date being no later than the applicable date established in § 1439.907(c);

(2) Submitted by the tribal government to the office designated by CCC no later than a date announced by CCC;

(3) Accompanied by valid receipts substantiating purchase of eligible feed for assistance. Valid receipts must also be accompanied by the certification referenced in the AILFP Payment Application, (Form CCC-644 or any replacement form) and shall contain:

(i) The date of feed purchase, which must fall within the eligible feeding period as approved on the contract;

(ii) The names and addresses of the buyer and the vendor;

(iii) The type of feed purchased;

(iv) The quantity of the feed purchased;

(v) The cost of the feed; and

(vi) The vendor's signature if the vendor is not licensed to conduct this type of business transaction.

(b) The tribal government shall review each payment application, as specified by CCC, for completeness and accuracy. Except as provided in paragraphs (c) and (d) of this section, the tribal government shall approve those eligible owners and applications meeting the requirements of this subpart.

(c) No approving tribal government member shall review and approve a payment application for any operation for which such member has a direct or indirect interest. Such payment application may be reviewed for approval by a member of the tribal government who is not related to the applicant by blood or marriage.

(d) Tribal governments do not have the authority to approve a payment application for any operation for which the tribe has a direct or indirect interest. Payment applications for tribal-owned livestock shall contain an original signature of a member of the tribal government, signing as representing all owners of the tribal-owned livestock, who possesses the authority to sign documents on behalf of the tribe and shall be submitted to an office designated by the Secretary for approval.

(e) No payment application shall be approved unless the owner meets all eligibility requirements. Information submitted by the owner and any other information, including knowledge of the tribal government concerning the owner's normal operations, shall be taken into consideration in making recommendations and approvals. If either the payment application is incomplete or information furnished by the owner is incomplete or ambiguous and sufficient information is not otherwise available with respect to the owner's farming operation in order to make a determination as to the owner's eligibility, the owner's payment application, as specified by CCC, shall be denied. The tribal government shall be responsible for notifying the owner of the reason for the denial and shall provide the owner an opportunity to submit additional information as requested.

(f) All payment applications, as specified by CCC, approved by the tribal government will be submitted to a designated FSA office for calculation of payment.

§ 1439.909 Payments.

(a) Provided all other eligibility requirements of this subpart are met, all eligible payment applications submitted to the designated FSA office shall have payments issued to the applicant by CCC.

(b) If any term, condition, or requirement of these regulations or contract are not met, payments and benefits previously provided by CCC that were not earned under the provisions of the application shall be refunded.

(c) Each owner's share of the total payment shall be indicated on the application, and each owner shall receive benefits or final payment from CCC according to benefits or payments earned under the provisions of the application and this part.

(d) Owners may file applications for more than one feeding period relating to losses occurring within the same year, either 2003 or 2004, but those years only, and in no case may a person receive payment for losses under this subpart for both 2003 and 2004. That is, eligible persons may receive benefits for one of those livestock feed crop years, but not both. CCC shall provide assistance equal to the amount of benefits determined for the owner for the feeding periods that the owner is eligible to receive benefits.

(e) The failure of any contact person to file the necessary receipts or sales documents showing that the terms and conditions of this part and the contract have been met shall render all of the persons ineligible for any payments and benefits under the contract including any payments previously made. Payments shall be refunded to CCC with interest, if applicable, as determined under § 1439.8.

(f) If the livestock owner is eligible for the AILFP and the Livestock Assistance Program (LAP), the livestock owner must elect to receive payment for the same year for all farms for both programs, either 2003 or 2004.

(g) Persons that received payments from Section 32 of the Act of August 24, 1935, with respect to 2004 hurricane losses are not eligible for payments under this subpart.

(h) Subject to such other limitations as may apply including those in § 1439.909(i), the amount of assistance provided to any owner shall not exceed the smaller of either:

(1) The dollar amount of eligible livestock feed purchased during the relevant eligible feeding period for the days for which such assistance is allowed (as documented by acceptable purchase receipts), less the dollar amount of any sale of livestock feed (whether purchased or produced) by the owner during the eligible feeding period; or

(2) Subject to adjustments, conditions, and deductions as otherwise may be provided for in this part, including, but not limited to those in paragraph (i) of this section, 30 percent of the amount computed by multiplying:

(i) The amount of the estimated daily feed need, expressed as pounds of corn, for the relevant type and weight range of the livestock using the table contained in the “type and weight range” definition contained in § 1439.3, or some alternative table chosen by the Deputy Administrator, by

(ii) The number of days the eligible owners of the livestock provided feed to the eligible livestock during the eligible days of the eligible feeding period;

(iii) A corn price, per pound of corn, which price shall be $0.0369642 for 2003 losses, and $0.0344642 for 2004 losses unless some alternative pricing shall be chosen by the Deputy Administrator (provided further, however, that after the completion of this multiplication, the claim amount shall be reduced by the dollar amount of any sale of livestock feed whether purchased or produced by the owner during the feeding period.

(3) For purposes of the calculation required by paragraph (h)(2) of this section, the number of livestock during the livestock feed crop year on which the claim is calculated, the Deputy Administrator can include, if all other conditions are met, livestock sold as a result of the natural disaster but only subject to such conditions as may be approved by the Deputy Administrator.

§ 1439.910 Program suspension and termination.

(a) The tribal government that requested the AILFP assistance may, at any time during the operation of a program, recommend suspension or termination of the program.

(b) The Deputy Administrator may suspend or terminate the program at any time if:

(1) The tribal government requests termination or suspension; or

(2) The Deputy Administrator determines a tribal government is not following program provisions when administering the program.

§ 1439.911 Appeals.

Any person who is dissatisfied with a CCC determination made with respect to this subpart may make a request for reconsideration or appeal of such determination in accordance with part 780 of this chapter. Any person who is dissatisfied with a determination made by the tribal authority should seek reconsideration of such determination with the tribe. Decisions and determinations made under this subpart not rendered by CCC or FSA are not appealable to the National Appeals Division.

§ 1439.912 Estates, trusts, and minors.

(a) Program documents executed by persons legally authorized to represent estates or trusts will be accepted only if such person furnishes evidence of the authority to execute such documents.

(b) A minor who is an owner shall be eligible for assistance under this subpart only if such person meets one of the following requirements:

(1) The right of majority has been conferred on the minor by court proceedings or by statute;

(2) A guardian has been appointed to manage the minor's property and the applicable program documents are executed by the guardian; or

(3) A bond is furnished under which the surety guarantees any loss incurred for which the minor would be liable had the minor been an adult.

§ 1439.913 Death, incompetence, and disappearance.

In the case of death, incompetence, or disappearance of any person who is eligible to receive assistance in accordance with this part, such person or persons specified in part 707 of this title may receive such assistance.

§ 1439.914 Violations.

(a) If the owner has failed to utilize the entire quantity of livestock feed purchased under the terms and conditions of the application for assistance and contract of these programs, the owner shall not dispose of any remaining quantity of such livestock feed except as specified by CCC.

(b) Fraudulent representations by any warehouseman, handler, dealer, or any other person may result in the person being suspended from participation in a program in accordance with part 1407 of this chapter if such person has:

(1) Made a false certification, representation or report in accordance with this subpart; or

(2) Otherwise failed to comply with any provisions of this part or any contracts entered into in accordance with this part. The making of such fraudulent representations shall make such person liable in accordance with applicable State and Federal criminal and civil statutes.

Signed in Washington, DC, on May 19, 2005.
James R. Little,
Executive Vice President, Commodity Credit Corporation.

[FR Doc. 05-10467 Filed 5-24-05; 8:45 am]

BILLING CODE 3410-05-P